FEDERAL COMMUNICATIONS COMMISSION

Public Information Collections Approved by Office of Management and Budget

December 21, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0056.

Expiration Date: December 31, 2004.

Title: Part 68—Connection of Terminal Equipment to the Telephone Network.

Form No.: N/A.

Respondents: Business or other for-profit; Individuals or household.

Estimated Annual Burden: 54,369 respondents; .10 minutes—24 hours per respondent; 2.1 hours per response (avg.); 117,959 total annual burden hours.

Estimated Annual Reporting and Recordkeeping Cost Burden: $2,705,000.

Frequency of Response: On occasion; Recordkeeping; Third Party Disclosure.

Description: In the Telecommunications Act of 1996 (1996 Act), Congress directed the Commission to review its rules every even-numbered year and repeal or modify those found to be no longer in the public interest. Consistent with the directive of Congress, in the year 2000, the Commission undertook its second comprehensive biennial review of the Commission's rules to eliminate regulations that are no longer necessary because the public interest can be better served through reliance on market forces. In a Report and Order issued in CC Docket No. 99-216, Biennial Regulatory Review of Part 68 of the Commission's Rules and Regulations, released December 21, 2000 (Order), the Commission completely eliminate significant portions of Part 68 of our rules governing the connection of customer premises equipment (terminal equipment) to the public switched telephone network and privatize the standards development and terminal equipment approval processes. Specifically, in the Commission transferred responsibility for developing technical criteria to Standards Development Organizations (SDOs) that are accredited by the American National Standards Institute (ANSI), and the responsibility for compiling and publishing all standards ultimately adopted as technical criteria for terminal equipment to the Administrative Council for Terminal Attachments (Administrative Council). The Commission maintains its rules' broad principles, including a proscription against causing any of four harms to the public switched telephone network by the direct connection of terminal equipment. Once the Administrative Council publishes the technical criteria, the Commission shall presume the criteria to be valid for the prevention of the harms to the public switched telephone network by terminal equipment interconnection, subject to de novo review by petition to this Commission. Conformance with the technical criteria will be considered a demonstration of compliance with the Commission's rules prohibiting terminal equipment from harming the public switched telephone network. Terminal equipment manufacturers either will submit their products to telecommunications certification bodies (TCBs) for certification of conformity with the technical criteria (instead of submitting them for registration with the Commission), or they will use the Commission's Supplier's Declaration of Conformity (SDoC) process to show conformity with the technical criteria. This process will be more efficient and responsive to the needs of all segments of the industry, and remove the Commission from a role where governmental involvement is no longer necessary or in the public interest. Following is a summary of the collections contained in the Order and 47 CFR part 68. See the Order and 47 CFR part 68 for additional information. a. Administrative Council for Terminal Attachment's Requirements—Currently, under rule 68.102 manufacturers must register terminal equipment. FCC Form 730 is no longer required to be used to obtain registration of telephone equipment pursuant to part 68 of the Commission's rules, but applicants may be required to file information with Telecommunications Certification Bodies or with the Administrative Council for Terminal Attachments. The Commission has ceased accepting applications for registration of part 68 equipment and transferred responsibility for establishing and maintaining the database of approved equipment to the Administrative Council. While continued collection of the information formerly required by FCC Form 730 is permitted, the Commission only requires that the database contain sufficient information for providers of telecommunications, this Commission and the U.S. Customs Service to carry out their functions. (No. of respondents: 2400; hours per response: 24 hours; total annual burden: 57,600 hours). b. Section 68.106—Notification to Provider of Wireline Telecommunications—Section 68.106 requires customers connecting terminal equipment or protective circuitry to the public switched telephone network shall, upon request of the provider of wireline telecommunications inform the provider of wireline telecommunications of the particular line(s) to which such connection is made, and any other information required to be placed on that terminal equipment pursuant to Section 68.354. Customers connecting systems assembled of combinations of individually-approved terminal equipment and protective circuitry shall provide, upon the request of the provider of wireline telecommunications, provide the information delineated in Section 68.106(b)(i)-(iv). Customers who intend to connect premises wiring other than fully protected premises wiring to the public switched telephone network shall, in addition to the requirements in Section 68.106(b), give notice to the provider of wireline telecommunications in accordance with Section 68.215(e). (No. of respondents: 50,000; hours per response: .05 hours; total annual burden: 2500 hours). c. Section 68.108, Notification of Incidence of Harm—Section 68.108 requires that providers of wireline telecommunications notify the customer that temporary discontinuance of service may be required should terminal equipment, inside wiring, plugs and jacks, or protective circuitry cause harm to the public switched telephone network or should the provider reasonably determinate that such harm is imminent. (No. of respondents: 7500; hours per response: 0.5 hours; total annual burden: 750 hours). d. Section 68.110, Disclosure of Technical Information—Section 68.110(a) requires provider of wireline telecommunications to provide, upon request, technical information concerning interface parameters not specified by the technical criteria published by the Administrative Council for Terminal Attachments that are needed to permit terminal equipment to operate in a manner compatible with the communications facilities of a provider of wireline telecommunications. Section 68.110(b) requires that a provider of wireline telecommunications give the customer adequate notice in writing if changes can be reasonably expected to render any customer's terminal equipment incompatible with the communications facilities of the provider of wireline telecommunications, or require modification or alteration of such terminal equipment, or otherwise materially affect its use or performance. (No. of respondents: 40; hours per response: .50 hours; total annual burden: 20 hours). Section 68.110(c) requires provider of wireline telecommunications to provide building owners with all available information regarding carrier-installed wiring on the customer's side of the demarcation point, including copies of existing schematic diagrams and service records. (No. of respondents: 200, with 1200 responses; hours per response: 1 hours; total annual burden: 1200 hours). e. Section 68.215, Notarized Affidavit—Section 68.215 requires that a notarized affidavit and one copy thereof be prepared by the installation supervisor in advance of each operation associated with the installation, connection, reconfiguration and removal of other than fully-protected premises wiring (except when accomplished functionally using a cross-connect panel), except when involved with removal of the entire premises communications systems using such wiring. The affidavit and its copy must contain the information specified in 47 CFR 68.215(e)(1)-(9). (No. of respondents: 7500; hours per response: .50 hours; total annual burden: 3750 hours). f. Section 68.218, Compliance Warrants—Section 68.218 requires that the responsible party warrants that each unit of equipment marketed under such authorization will comply with all applicable rules and regulations of part 68 and with the applicable technical criteria of the Administrative Council for Terminal Attachments. (No. of respondents: 974, with 2350 responses; hours per response: .5 hours; total annual burden: 1175 hours).

g. Section 68.324, Supplier's Declaration of Conformity—Section 68.324(a)(1)-(6) lists the information that each responsible party must include in the Supplier's Declaration of Conformity. (No. of respondents: 974, with 2350 responses; hour per response: 20 hours; total annual burden: 47,000 hours). h. Section 68.326, Retention of Records—Section 68.326 requires that responsible party for a Supplier's Declaration of Conformity maintains records containing the information specified in Section 68.326(a)(1)-(4) for at least ten years after the manufacture of said equipment has been permanently discontinued, or until the conclusion of an investigation or a proceeding, if the responsible party is officially notified prior to the expiration of such ten year period that an investigation or any other administrative proceeding involving its equipment has been instituted, whichever is later. See 47 CFR 68.326. (No. of respondents: 974, with 2350 responses; hours per response: .5 hours; total annual burden: 1175 hours). i. Section 68.346, Description of Testing Facilities—Section 68.346 requires that each responsible party for equipment that is subject to a Supplier's Declaration of Conformity compiles and retains a description of the measurement facilities employed for testing the equipment. The description shall contain the information required by the Administrative Council for Terminal Attachments. See 47 CFR Section 68.346. (No. of respondents: 974, with 2350 responses; hours per response: .25 hours; total annual burden: 587 hours). j. Section 68.354, Numbering and Labeling Requirements—Section 68.354 requires that terminal equipment and protective circuitry that is subject to a Supplier's Declaration of Conformity or that is certified by a Telecommunications Certification Body have labels in a place and manner required by the Administrative Council for Terminal Attachments. Terminal equipment labels shall include an identification numbering system in a manner required by the Administrative Council for Terminal Attachments. FCC numbering and labeling requirements existing prior to the effective date of these rules shall remain unchanged until the Administrative Council for Terminal Attachments publishes its numbering and labeling requirements. See 47 CFR 68.354. See also 47 CFR 68.612. (No. of respondents: 974, with 2350 responses: .25 hours; total annual burden: 587 hours). k. Sections 68.400—68.417, Complaints. A complaint must be in writing and contain the information specified in Section 68.400(a)-(d). (No. of respondents: 5; hours per response: 20 hours; total annual burden: 20 hours). l. Section 68.418, Designation of Agents for Service—Pursuant to Section 68.418, every responsible party of equipment approved pursuant to part 68 must designate and identify one or more agents upon whom service may be made of all notices, inquiries, orders, decisions, and other pronouncements of the Commission in any matter before the Commission. See 47 CFR Section 68.418. (No. of respondents: 974, with 2350 responses: hours per response: .1 hour; total annual burden: 235 hours). m. Section 68.419, Answers to Informal complaints—Section 68.419 requires that any responsible party to whom the Commission or the Consumer Information Bureau directs an informal complaint file an answer within the time specified by the Commission or the Consumer Information Bureau, as required by in Section 68.419(a)-(e). (No. of respondents: 5; hours per response: 20 hours; total annual burden: 100 hours). n. Section 68.604, Requirements for submitting technical criteria—Any SDO that submits standards to the Administrative Council for Terminal Attachments for publication as technical criteria shall certify to the Administrative Council for Terminal Attachments the information found in Section 68.604(c)(1)-(3). See 47 CFR Section 68.604. (No. of respondents: 5, with 10 responses; hours per burden: 5 hours; total annual burden: 5 hours). o. Section 68.610, Database of Terminal Equipment—Section 68.610 requires that the Administrative Council for Terminal Attachments operates and maintains a database of all approved terminal equipment. (No. of respondents: 974, with 2350 responses; hours per response: .5 hours; total annual burden: 1175 hours). To ensure that consumers, providers of telecommunications, the Administrative Council, TCBs, and the Commission are able to trace products to the party responsible for placing terminal equipment on the market, it is essential to require manufacturers and suppliers to provide the information specified in the Order and 47 CFR part 68. Authority: 47 U.S.C. 151-154; 47 U.S.C. 201-205; 47 U.S.C. 303. Obligation to respond: Required to obtain or retain benefits.

OMB Control No.: 3060-0972.

Expiration Date: June 30, 2002.

Title: Multi-Association Group (MAG) Plan for Regulation of Interstate Services of Non-Price Cap Incumbent Local Exchange Carriers (LECs) Subject to Rate-of-Return Regulation.

Form No.: N/A.

Respondents: Business or other for-profit.

Estimated Annual Burden: 8059 respondents; 4.8 hours per response (avg.); 38,760 total annual burden hours.

Estimated Annual Reporting and Recordkeeping Cost Burden: $228,000.

Frequency of Response: On occasion; Quarterly; Annually; One-time; Third Party Disclosure.

Description: In the Second Report and Order in CC Docket Nos. 00-256, Fifteenth Report and Order in CC Docket No. 96-45, and Report and Order in CC Docket Nos. 98-77 and 98-166 (Report and Order), consistent with the recommendation of the Federal-State Joint Board on Universal Service, the Commission modifies its rules to reform the interstate access charge and universal service support system for incumbent local exchange carriers (LECs) subject to rate of return regulation. Below are summaries of the collections imposed on telecommunications carriers based on rules adopted in the Report and Order: a. Projected Revenue Requirements: In order to enable the Administrator to calculate per-line amounts of Interstate Common Line Support, rate-of-return carriers other than average schedule companies shall report to the Administrator their projected common line revenue requirement for each study area in which they operate. (No. of respondents: 769; hours per response: 2 hours; total annual burden: 1538 hours). In order to enable the Administrator to begin distributing Interstate Common Line Support to carriers on July 1, 2002, rate-of-return carriers will be required to submit to the Administrator projected common line revenue requirements for July 1, 2002, to June 30, 2003, by March 31, 2002. Consistent with carrier access tariff filing obligations and NECA's current procedures for the filing of revenue requirements by members of the carrier common line pool, the Commission will permit carriers to submit to the Administrator corrections of their projected common line revenue requirements until April 10, 2002. After April 10, 2002, any corrections to projected common line revenue requirements shall be made in the form of true ups, described below, using actual cost data. Rate-of-return carriers will be required to submit to the Administrator projected common line revenue requirements for subsequent years on the same schedule. (No. of respondents: 531; hours per response: 2 hours; total annual burden: 1062 hours). b. True Ups: On July 31st of each year, rate-of-return carriers will be required to submit actual interstate common line cost data to the Administrator for the preceding calendar year. The first date for filing actual cost data shall be July 31, 2003. The Administrator shall adjust a rate-of-return carrier's monthly per-line Interstate Common Line support in the following calendar year (i.e., January 1, 2004 through December 31, 2004) to the extent of any difference between the carrier's projected common line revenue requirement and its actual cost data. Because the July 1, 2003, filing will only include cost data for the first six months that Interstate Common Line Support is available (July 1, 2002, through December 31, 2002), trued-up support amounts distributed in the calendar year 2004 will be based on a pro-rated share of the 2002 annual cost data (i.e., 50 percent of the 2002 actual costs will be attributed to the final six months of 2002). Trued-up support amounts distributed in subsequent calendar years will be based on complete funding year cost data. (No. of respondents: 769; hours per response: 4 hours; total annual burden: 3076 hours). In order to provide rate-of-return carriers with opportunities to true up support amounts on a more frequent basis, the Commission will permit carriers to file updated cost data with the Administrator on a quarterly basis. Quarterly true ups will enable carriers that experience unforeseen costs to qualify for increased Interstate Common Line Support amounts. Quarterly true ups also will reduce risks associated with receiving Interstate Common Line Support based on a projected common line revenue requirement. Carriers wishing to submit cost data on a quarterly basis will file such data in accordance with the schedule provided in section 36.612 of the rules. (No. of respondents: 100; hours per response: 2 hours; total annual burden: 200 hours).

c. Line Counts: Consistent with rules adopted in the Rural Task Force Order, rate-of-return carriers will file their line counts, by disaggregation zone and customer class, in accordance with the schedule in sections 36.611 and 36.612 of our rules. Line count data for rural rate-of-return carrier study areas in which a competitive eligible telecommunications carrier has not begun providing service will be filed on an annual basis. Line count data will be filed on a regular quarterly basis upon competitive entry in rural rate-of-return carrier study areas. (No. of respondents: 1300; hours per response 6 hours: total annual burden: 7800 hours). Competitive eligible telecommunications carriers will file their line counts, by disaggregation zone and customer class on a quarterly basis, in accordance with the schedule in section 54.307 of our rules. (No. of respondents: 10; hours per response: 6 hours; total annual burden: 60 hours). d. Disaggregation Plans: Consistent with section 254 of the Act, we conclude that the plan for the geographic disaggregation and targeting of portable high-cost universal service support below the study area level recently adopted in the Rural Task Force Order will also apply to Interstate Common Line Support. To ensure the portability and predictability of support, rate-of-return carriers that elect to disaggregate and target support will be required to submit maps to the Administrator in which the boundaries of the designated disaggregation zones are clearly specified. The Administrator will make such maps available for public inspection by competitors and other interested parties. When submitting information in support of Path Three self-certification, incumbent carriers must provide the Administrator with publicly available information that allows competitors to verify and reproduce the algorithm used to determine zone support levels (Self-Certification of Disaggregation Plan). Similarly, carriers electing Path One must submit to the Administrator a copy of certifications to a state commission or appropriate regulatory authority that they will not disaggregate and target support (Notification to State of Change in Disaggregation Methodology). Carriers selecting Path Two must submit a copy to the Administrator of the order by the state commission or appropriate regulatory authority approving the disaggregation plan submitted, along with a copy of the disaggregation plan itself (Targeting Plan to State). The Commission extends until May 15, 2002, the date by which carriers will be required to select a disaggregation path for high-cost loop, LTS, LSS, and Interstate Common Line Support mechanisms. (No. of respondents: 100; hours per response: 1 hour; total annual burden 100 hours) e. Section 254(e) Certifications: Section 254(e) provides that a carrier receiving universal service support must use that support “only for the provision, maintenance, and upgrading of facilities and service for which the support is intended.” In the Rural Task Force Order, the Commission sets forth rules requiring a state that wishes to receive federal universal service high-cost support for rural carriers within its territory to file a certification with the Commission stating that all federal high-cost funds flowing to rural carriers in such state will be used in a manner consistent with section 254(e). In addition, in the Interstate Access Support Order, the Commission adopted certification rules for the receipt of interstate access support. In the Rural Task Force Order, the Commission addressed federal universal service support for intrastate rates and the Commission required states to file a certification of section 254(e) compliance with the Commission because states have jurisdiction over rates for intrastate services. In this Order, the Commission addresses federal support for interstate rates, a matter over which the Commission has jurisdiction. Thus, to ensure that carriers receiving Interstate Common Line Support and LTS will use that support in a manner consistent with section 254(e), the Commission shall require carriers seeking such support to file a certification with the Commission and the Administrator. This requirement is consistent with rules adopted in the Interstate Access Support Order. This certification requirement will be applicable to rate-of-return carriers and eligible telecommunications carriers seeking support from our Interstate Common Line Support mechanism. The certification shall be filed with the Commission and the Administrator on March 31, 2002, at the same time a carrier files its first set of line count data with the Administrator. Such certification shall be filed in CC Docket No. 96-45 annually thereafter on June 30th. The certification may be filed in the form of a letter and must state that the carrier will use its Interstate Common Line Support and LTS only for the provision, maintenance, and upgrading of facilities and service for which support is intended. In the event that a certification is filed untimely, the carrier will not become eligible for support until the second calendar quarter after the certification is filed. Failure to file a certification will preclude a carrier from receiving Interstate Common Line Support or LTS. Carriers that fail to abide by their certification, or otherwise violate section 254(e), shall be subject to enforcement action by the Commission. (No. of respondents: 1300; hours per response: 2 hours; total annual burden: 2600 hours). f. Required tariff filings: All rate-of-return carriers are required to modify their access tariffs to comply with the new Subscriber Line Charge (SLC) caps, to become effective on January 1, 2002, and on July 1, 2002, and July 1, 2003 subject to a cost review study for price cap carriers. Rate-of-return carriers also must file tariffs to recover through a separate end-user charge the costs of ISDN line ports and line ports associated with other services that exceed the costs of a line port used for basic analog service. (No. of respondents: 116; hours per response: 69.9 hours (avg.); total annual burden: 8110 hours). g. Optional Line Port Cost Study: Rate-of-return carriers may use 30 percent of local switching costs as a proxy in shifting line port costs to the common line category, or may conduct a cost study based on geographically-averaged costs to be submitted in support of the tariff filing relying on the cost study. A carrier may rely on a cost study for subsequent tariff filings. (No. of respondents: 12; hours per response 40 hours; total annual burden: 480 hours). h. Establishment of TIC Caps: NECA is required to establish for carriers that participated in the NECA pool during the tariff year ending June 30, 2001, an individual carrier dollar limit based on its traffic volumes and the TIC rate for the twelve-month period ending June 30, 2001. Each carrier that was not in the pool during the tariff year ending on June 30, 2001, must determine its TIC limit and report it to NECA for purposes of administering future pool membership changes. (No. of respondents: 1186; hours per response: .13 hours; total annual burden: 2.6 hours). i. Optional tariff filings: Rate-of-return carriers may, at their option, establish the following local switching and transport rate elements: a flat charge for dedicated trunk port costs; a flat charge for the costs of DS1/voice grade multiplexers associated with terminating dedicated trunks at analog switches; a per-minute charge for shared trunk ports and any associated DS1/voice grade multiplexer costs; a flat charge for the costs of trunk ports used to terminate dedicated trunks on the serving wire center side of the tandem switch; individual charges for multiplexer costs associated with tandem switches; and a per-message call setup charge. (No. of respondents: 12; hours per response: 93 hours; total annual burden: 1116 hours). j. GSF allocation: Beginning July 1, 2002, rate-of-return carriers that use general purpose computers to provide non-regulated billing and collection services are required to allocate a portion of their general purpose computer costs to the billing and collection category, which will require them to determine general purpose computer investment. Carriers may use the general purpose computer investment amount they develop for a period of three years. (No. of respondents: 600; hours per response: 20 hours; total annual burden: 12,000 hours). The Commission will use the information collected to determine whether and to what extent non-price cap or rate-of-return carriers providing the data are eligible to receive universal service support. The Commission will use the tariff data to make sure that rates are just and reasonable, as required by section 201(b) of the Act. Obligation to respond: Mandatory. Public reporting burden for the collection of information is as noted above. Send comments regarding the burden estimate or any other aspect of the collections of information, including suggestions for reducing the burden to Performance Evaluation and Records Management, Washington, DC 20554.

Federal Communications Commission.
William F. Caton,
Deputy Secretary.

[FR Doc. 02-377 Filed 1-7-02; 8:45 am]

BILLING CODE 6712-01-P